DEPARTMENT OF THE INTERIOR

Bureau of Ocean Energy Management

[MMAA104000]

Extension of Comment Period for Request for Information and Comments on the Preparation of the 2017-2022 Outer Continental Shelf (OCS) Oil and Gas Leasing Program

AGENCY: Bureau of Ocean Energy Management (BOEM), Interior.

ACTION: Extension of Comment Period.

SUMMARY: On June 16, 2014, BOEM published a Request for Information and Comments on the preparation of a new Oil and Gas Leasing Program for 2017-2022, as required by section 18 of the OCS Lands Act (43 U.S.C. 1344). The Act requires the Department of the Interior to invite and solicit information on all 26 OCS planning areas from interested and affected parties as the first step in the preparation of a Five Year OCS Oil and Gas Leasing Program (Five Year Program).

The June 16 notice provided for a 45-day comment period, which is scheduled to end on July 31, 2014. BOEM has received requests from several coastal states to extend the comment period. To further the intent of the OCS Lands Act to collect information for future decision-making and provide ample opportunity for interested and affected parties to comment, BOEM is extending the comment period to August 15, 2014. See instructions for commenting below as they are simplified from the original notice as explained on the BOEM Five Year Web page.

DATES: BOEM must receive all comments and information by August 15, 2014.

FOR FURTHER INFORMATION CONTACT: Ms. Kelly Hammerle, Five Year Program Manager, at (703) 787-1613.

Public Comment Procedure

BOEM will accept comments in one of two formats: internet commenting system or regular mail. BOEM's preference is to receive comments via the internet commenting system. Comments should be submitted using only one of these formats, and include full name and address of the individual submitting the comment(s). Comments submitted by other means may not be considered. BOEM will not consider anonymous comments. BOEM will make available for public inspection in their entirety, all comments submitted by organizations and businesses, or by individuals identifying themselves as representatives of organizations or businesses.

BOEM's practice is to make comments, including the names and addresses of individuals, available for public review. An individual commenter may ask that BOEM withhold from the public record his or her name, home address, or both, and BOEM will honor such a request to the extent allowable by law. If individuals submit comments and desire withholding of such information, they must so state prominently at the beginning of their submission.

Commenting via Internet

Internet comments should be submitted via the Federal eRulemaking Portal at http://www.regulations.gov. BOEM requests that commenters follow these instructions to submit their comments via this Web site:

To Comment Electronically (preferred method)

1. Go to Regulations.gov and enter BOEM-2014-0059-0001 in the Search box.

2. Click the blue 'Comment Now' button to submit your comments.

Information on using Regulations.gov, including instructions for accessing documents, submitting comments, and viewing the docket after the close of the comment period, is available through the site's “User Tips” link.

Commenting via Regular Mail

Mail comments and information on the 2017-2022 Program to Ms. Kelly Hammerle, Five Year Program Manager, BOEM (HM-3120), 381 Elden Street, Herndon, Virginia 20170. Environmental comments relevant to oil and gas development on the OCS should be sent to Mr. James F. Bennett, Chief, Division of Environmental Assessment, BOEM (HM-3107), 381 Elden Street, Herndon, Virginia 20170. If commenters submit any privileged or proprietary information to be treated as confidential, they should mark the envelope “Contains Confidential Information.”

Dated: July 29, 2014.
L. Renee Orr,
Acting Director, Bureau of Ocean Energy Management.

[FR Doc. 2014-18269 Filed 7-31-14; 8:45 am]

BILLING CODE 4310-MR-P